DEPARTMENT OF TRANSPORTATION

Federal Aviation Administration

14 CFR Part 121

Disqualification for Airman and Airman Medical Certificate Holders Based on Alcohol Violations or Refusals To Submit to Drug and Alcohol Testing

CFR Correction

In Title 14 of the Code of Federal Regulations, Parts 60 to 139, revised as of January 1, 2007, in Appendix I to Part 121, on page 938, section VI is corrected by removing and reserving paragraph D.2.

[FR Doc. 07-55504 Filed 3-22-07; 8:45 am]

BILLING CODE 1505-01-D